DEPARTMENT OF JUSTICE

Antitrust Division

Notice Pursuant to the National Cooperative Research and Production Act of 1993—Advanced Technology Program/National Institute of Standards and Technology (“NIST”)

Notice is hereby given that, on July 18, 2000, pursuant to Section 6(a) of the National Cooperative Research and Production Act of 1993, 15 U.S.C. 4301 et seq. (“the Act”), Advanced Technology Program/National Institute of Standards and Technology (“NIST”) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Siemens Westinghouse Power Corp., Orlando, FL; Precision Combustion, Incorporated, North Haven, CT; and Solar Turbines, Incorporated, San Diego, CA. The nature and objectives of the venture are to develop a dual-fuel catalytic system for high-temperature gas turbine engines for the power generation industry under the subject Advanced Technology Program for NIST.

Constance K. Robinson,
Director of Operations.

[FR Doc. 00-22457 Filed 8-31-00; 8:45 am]

BILLING CODE 4410-11-M